DEPARTMENT OF COMMERCE

National Oceanic and Atmospheric Administration

Agency Information Collection Activities; Submission to the Office of Management and Budget (OMB) for Review and Approval; Comment Request; Coastal and Estuarine Land Conservation Planning, Protection or Restoration

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 18, 2025.

ADDRESSES: Interested persons are invited to submit written comments to Adrienne Thomas, NOAA PRA Officer, at NOAA.PRA@noaa.gov. Please reference OMB Control Number 0648-0459 in the subject line of your comments. Do not submit Confidential Business Information or otherwise sensitive or protected information.

FOR FURTHER INFORMATION CONTACT: Requests for additional information or specific questions related to collection activities should be directed to Elaine Vaudreuil, Program Analyst, NOAA Ocean Service, 1305 East-West Hwy, 202-936-6008, Elaine.Vaudreuil@noaa.gov.

SUPPLEMENTARY INFORMATION:

I. Abstract

NOAA's Office for Coastal Management requests the extension of a currently approved information collection. NOAA has, or is given, authority under the Coastal Zone Management Act (CZMA), annual appropriations or other authorities, to issue funds to coastal states, localities or other recipients for planning, conservation, acquisition, protection, restoration, or construction projects. The required information enables NOAA to implement the Coastal and Estuarine Land Conservation Program (CZMA section 307A), under its current or future authorization, and facilitate the review of similar projects under different, but related, authorities, including the National Estuarine Research Reserve System (CZMA section 315) Land Acquisition and Construction program, the Coastal Zone Management Program's low-cost acquisition and construction program (CZMA section 306A), the Fish and Wildlife Coordination Act, or other authorities.

This collection covers the development of state coastal land conservation plans, and collection of information specifically needed for applying for and carrying out land acquisition, restoration and construction projects, such as: appraisals, property surveys and site plans, legal documentation such as deeds, easements and/or plats, and information needed for environmental compliance reviews. Such information is collected from project applicants or sub-recipients, which are typically state or local government agencies, but may also include nongovernmental or Tribal organizations.

The information will be used in evaluating project proposals, reviewing the location and impact of proposed activities, documenting compliance with the National Environmental Policy Act and other applicable statutes, and conducting due diligence on market value, title encumbrances, property boundaries, proper recording of legal instruments. No changes are proposed to the collection.

II. Method of Collection

Electronic formats are the preferred method for submitting Coastal and Estuarine Land Conservation Planning, Protection or Restoration (CELCP) plans, land conservation project applications, performance reports and other required materials. However, respondents may submit materials in electronic or paper formats. Project applications are normally submitted electronically via Grants.gov, but may be submitted by mail in paper form if electronic submittal is not a viable option. Methods of submittal for plans, performance reports or other required materials primarily include electronic submittal via email, secure file transfer, or eRA Commons, with submittal of paper forms or electronic files by mail if necessary.

III. Data

OMB Control Number: 0648-0459.

Form Number(s): None.

Type of Review: Regular submission (extension of a currently approved information collection).

Affected Public: State, Local, or Tribal Government; not-for-profit institutions.

Estimated Number of Respondents: 55.

Estimated Time per Response: CELCP Plans, 120 hours to develop, 35 hours to revise or update; project application and checklist, 20 hours; semi-annual and annual reporting, 5 hours each.

Estimated Total Annual Burden Hours: 1,455.

Estimated Total Annual Cost to Public: $55 in recordkeeping/reporting costs.

Respondent's Obligation: Required to Obtain or Retain Benefits.

Legal Authority: Coastal Zone Management Act (16 U.S.C. 1451, et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-29755 Filed 12-16-24; 8:45 am]

BILLING CODE 3510-08-P